DEPARTMENT OF HEALTH AND HUMAN SERVICES

Centers for Disease Control and Prevention

Advisory Committee to the Director, Centers for Disease Control and Prevention

In accordance with section 10(a)(2) of the Federal Advisory Committee Act (Pub. L. 92-463), the Centers for Disease Control and Prevention (CDC) announces the following Advisory Committee meeting.

Name: Advisory Committee to the Director, CDC.

Time and Date: 8:30 a.m.-4:30 p.m., August 25, 2005.

Place: Emory Conference Center, 1615 Clifton Road, Atlanta, Georgia 30329.

Status: Open to the public, limited only by the space available. The meeting room accommodates approximately 75 people.

Purpose: The committee will provide advice to the CDC Director on strategic and other broad issues facing CDC.

Matters to Be Discussed: Agenda items will include updates on CDC priorities with discussions of program activities including updates on CDC scientific and programmatic activities, strategic imperatives, goals, research agenda, and health equity.

Agenda items are subject to change as priorities dictate.

Contact Person for More Information: Robert Delaney, Executive Secretary, Advisory Committee to the Director, CDC, 1600 Clifton Road, NE, M/S D-14, Atlanta, Georgia 30333. Telephone (404) 639-7000.

The Director, Management Analysis and Services Office, has been delegated the authority to sign Federal Register notices pertaining to announcements of meetings and other committee management activities, for both CDC and the Agency for Toxic Substances and Disease Registry.

Dated: July 25, 2005.
Diane Allen,
Acting Director, Management Analysis and Services Office, Centers for Disease Control and Prevention.

[FR Doc. 05-15019 Filed 7-27-05; 8:45 am]

BILLING CODE 4163-18-P